SMALL BUSINESS ADMINISTRATION

Privacy Act of 1974; System of Records

AGENCY: U.S. Small Business Administration.

ACTION: Notice of a Modified System of Records.

SUMMARY: The U.S. Small Business Administration (SBA) proposes to update a system of records titled, Veteran Programs Training and Counseling Records (SBA 39), to its inventory of records systems subject to the Privacy Act of 1974 (5 U.S.C. 552a), as amended. Publication of this notice complies with the Privacy Act and the Office of Management and Budget (OMB) Circular A-130 requirement for agencies to publish a notice in the Federal Register whenever the agency establishes a new system of records. The SBA's Office of Veterans Business Development (OVBD) manages grant programs related to the counseling and training services for veterans. The OVBD maintains a System of Records including include registration forms, participant/client surveys, interviews, resource partner surveys, which includes personal information such as name, gender, race, ethnicity, service, and pay grade, which are used to analyze the population of veterans who are seeking training.

DATES: Submit comments on or before October 25, 2019. This revised system will be effective upon publication.

FOR FURTHER INFORMATION CONTACT: Martin Williams, Veterans Affairs Specialist, 409 3rd Street SW, Suite 5700 Washington, DC 20416.

ADDRESSES: Submit written comments to Martin Williams, Veterans Affairs Specialist, 409 3rd Street SW, Suite 5700 Washington, DC 20416.

SUPPLEMENTARY INFORMATION: A system of records is a group of any records under the control of a Federal agency from which information is retrieved by the name of an individual or by a number, symbol or other identifier assigned to the individual. The Privacy Act, 5 U.S.C. 552a, requires each Federal agency to publish in the Federal Register a system of records notice (SORN) identifying and describing each system of records the agency maintains, the purposes for which the agency uses the personally identifiable information (PII) in the system, the routine uses for which the agency discloses such information outside the agency, and how individuals can exercise their rights related to their PII information. The SBA's Office of Veterans Business Development (OVBD) manages grant programs related to the counseling and training services for veterans, National Guard & Reserve members, transitioning service members, military spouses and their dependents. These services include the Boots to Business & Boots to Business Reboot Programs, Veterans Business Outreach Center Program, Women Veteran Entrepreneurship Program, Service-Disabled Veteran Entrepreneurship Training Program and the Veteran Federal Procurement Entrepreneurship Training Program. VBOCs, and other OVBD grantees, implement SBA's Veterans programs and initiatives as authorized by section 32 of the Small Business Act (15 U.S.C. 657b). In order to measure program performance, implement standardized outreach efforts and register participants for training/counseling, information is collected through various methods. These methods include registration forms, participant/client surveys, interviews, resource partner surveys, and data obtained through data sharing agreements with other Federal agencies. Collected information is used to analyze the population of veterans who are seeking entrepreneurial training, identify trends among participants, facilitate communication between the Office of Veterans Business Development and training/counseling participants, and to evaluate the performance of the OVBD programs.

SYSTEM NAME AND NUMBER:

Veteran Programs Training and Counseling Records (SBA 39).

SECURITY CLASSIFICATION:

Unclassified.

SYSTEM LOCATION:

SBA Headquarters, 409 3rd Street SW, Washington, DC 20416.

SYSTEM MANAGER(S):

Martin Williams, Veterans Affairs Specialist, 409 3rd Street SW, Suite 5700, Washington, DC 20416, 202-205-6157.

. . .

CATEGORIES OF RECORDS IN THE SYSTEM:

The records in this system include:

1. Course data.

2. Personal Data (Last Name, First Name, Middle Name, Date of Birth, Post-separation email, Post-separation phone number).

3. Military Service data (DoD ID Number, Grade, Service, Component, Guard/Reserve Status, Military Installation, Anticipated Separation Date).

4. Demographics (Gender, Race, Ethnicity).

5. Previous business ownership experience data.

6. Transition Assistance Program data (eForm Sequence ID, opt-in Federal Agencies, Additional Entrepreneurship Track Training—Selection, Additional Entrepreneurship Track Training—Completion Date, Pre-Separation Service Member Signature date, eForm last change date).

7. Course/counseling/training survey Data.

8. Economic Impact Data (Jobs Created, Capital Infusion, Revenue Growth, Government Contract Awards, etc.).

RECORD SOURCE CATEGORIES:

Information contained within this system is obtained from:

1. Individuals covered by this system of records (e.g., transitioning service member, veterans, dependents)

2. SBA Resource Partners

3. The Defense Enrollment Eligibility Reporting System (DEERS)

4. The Defense Manpower Data Center (DMDC)

. . .

HISTORY:

Veteran Programs Training and Counseling Records, published October 27, 2015 at 80 FR 65,843 (https://www.govinfo.gov/content/pkg/FR-2015-10-27/pdf/2015-27257.pdf).

Dated: September 19, 2019.
Martin Williams,
Veterans Affairs Specialist, Office of Veterans Business Development.

[FR Doc. 2019-20687 Filed 9-24-19; 8:45 am]

BILLING CODE 8026-03-P